POSTAL SERVICE

Notice To Postpone Public Hearing and Extend Public Comment Period for Supplement to the Next Generation Delivery Vehicles Acquisitions Final Environmental Impact Statement

On June 10, 2022, the Postal Service published a Notice of Intent (NOI) to prepare a Supplemental Environmental Impact Statement (SEIS) to analyze potential environmental impacts of a proposed change to the Preferred Alternative for its Next Generation Delivery Vehicle (NGDV) Acquisitions, which was adopted in the Record of Decision (ROD) on February 23, 2022. The Final Environmental Impact Statement (FEIS) for the NGDV Acquisitions was published on January 7, 2022, pursuant to the requirements of the National Environmental Policy Act of 1969 (NEPA), its implementing regulations at 39 CFR part 775, and the President's Council on Environmental Quality (CEQ) regulations at 40 CFR part 1500.

The FEIS analyzed potential environmental impacts of several alternatives that the Postal Service developed and considered for replacing end-of-life and high-maintenance delivery long-life vehicles (LLVs) and flexible fuel vehicles (FFVs) with new vehicles that have more energy-efficient powertrains, updated technology, reduced emissions, increased cargo capacity and improved loading characteristics, improved ergonomics and carrier safety, and reduced maintenance costs. Under the selected Preferred Alternative, the Postal Service would purchase and deploy 50,000 to 165,000 NGDVs, at least 10 percent of the NGDVs would have battery electric vehicle (BEV) powertrains, and the Postal Service would have the flexibility to acquire significantly more BEV NGDVs should funding become available. On March 24, 2022, in accordance with the ROD, the Postal Service placed an order for 50,000 NGDVs, of which 10,019 are BEVs.

The NOI for the SEIS announced that network refinements and route optimization efforts could impact the makeup of the Postal Service's future delivery fleet—including vehicles purchased pursuant to the NGDV Acquisition—and that the SEIS would analyze the potential environmental impacts of those potential changes. Specifically, the Postal Service announced that it would consider the impacts of proposed route changes that may warrant an increase in the minimum number of BEV NGDVs to be procured to replace LLVs and FFVs. The Postal Service included in the NOI for the SEIS a notice for a virtual public hearing to be conducted on Tuesday, July 19, 2022, at 7:00 p.m. (ET).

The Postal Service now announces our intention to postpone that virtual public hearing to the new date of Monday, August 8, 2022, at 7 p.m. (ET). Registration information is available at the following website: http://uspsngdveis.com/. Accordingly, the public comment period for the Notice of Intent will also be extended until August 15, 2022.

The reason for the public hearing postponement and public comment extension is to inform the public and solicit comments regarding the Postal Service's adjustment to the scope of the SEIS. As the Postal Service has determined that there is a compelling need to redesign our operating model in order to substantially reduce operating costs, significantly improve service, and enable exponential growth in our package delivery business, the SEIS scope is being adjusted to analyze potential environmental impacts from these recent changes that will affect our delivery procurement strategy and require two modifications to our Preferred Alternative for replacing LLVs and FFVs with new vehicles.

First, the Postal Service proposes to modify its Preferred Alternative to the purchase and deployment of only 50,000 NGDVs consisting of a mix of ICE and BEV powertrains with what we anticipate will be a significantly higher percentage of BEVs, and certainly not less than 50 percent. This significant increase that we anticipate in the minimum percentage of BEV NGDVs reflects the favorable cost benefit impacts expected from the changes to both our operational strategy and our acquisition planning horizon that are discussed below.

Any purchase of NGDVs above the 50,000 (or the purchase of any other purpose-built vehicles) would be subject to future supplements to the FEIS, given the likelihood of advances in technology, changes to the cost profile and market availability of current and future technology, and further improvements and refinements in the operational strategy of the Postal Service.

Second, in response to our critical need to accelerate the replacement of aged and high-maintenance LLVs and FFVs in the near term, thereby reducing the significant operational risks, adverse environmental impacts, and considerable costs associated with extending their lives, and to be more responsive to dynamic market conditions, the Postal Service proposes to procure within a two-year period: (1) up to 20,000 left-hand drive Commercial Off-the-Shelf (COTS) vehicles, including as many BEVs as are commercially available and consistent with our delivery profile; and (2) up to 14,500 right-hand drive ICE COTS vehicles. To be clear, the Postal Service anticipates that because of our critical and immediate need for delivery vehicles to fulfill our universal service mission, and the limitations on the current market availability for BEVs that can support our daily requirement to deliver to 163 million addresses six (and sometimes seven) days per week, it will be necessary for us to procure some ICE vehicles. In parallel, we will also need to make significant investment in the repair of over 50,000 aging LLVs and FFVs each year to continue extending their useful life, despite the significant operational risk, considerable maintenance costs, and the higher emissions of greenhouse gases and other air pollutants when compared to more modern vehicles. This activity will be necessary because of our universal service mission and our inability to acquire sufficient quantities of modern vehicles in the current market (irrespective of the type of drive train) to replace our delivery fleet.

If adopted, these measures would significantly modify the Postal Service's Preferred Alternative for replacing LLVs and FFVs with new vehicles. The SEIS is intended to evaluate the potential environmental impacts of the current procurement of 50,000 NGDVs and procuring the additional 34,500 COTS vehicles. It is the Postal Service's expectation that the total quantity of NGDVs and COTS vehicles to be procured in the SEIS's Preferred Alternative will be at least 40 percent BEV.

Over the next ten to fifteen years, the Postal Service intends to pursue a multiple step acquisition process in our longer term efforts to fully replace our aging delivery fleet, and in that regard anticipates evaluating and procuring smaller quantities of vehicles over shorter time periods than the ten-year period analyzed in the FEIS in order to be more responsive to our evolving operational strategy, technology improvements, and changing market conditions, including the expected increased availability of BEV options in the future. Additional vehicle procurements beyond the procurements being analyzed in this Supplement would be assessed in subsequent supplements to the FEIS, on an as-needed basis, taking advantage of the then-current market and operational conditions.

The change to our delivery procurement strategy is being made in response to substantial delivery network and route optimization improvements to the postal delivery network. As such, the SEIS will analyze the potential environmental impacts to the delivery fleet from the new Preferred Alternative, including the extent to which we expect the network improvements, changed route length and characteristics, and improved facility electric infrastructure will result in a significant increase in the minimum number of BEV NGDVs and COTS to be procured under the SEIS Preferred Alternative.

The Postal Service actively seeks input from the public, interested persons, organizations, and federal, state, and regional agencies to identify environmental concerns and potential alternatives to be addressed in the SEIS and will continue to accept public comments until August 15, 2022. With respect to recommendations regarding potential alternatives, the Postal Service requests that comments be as specific as possible regarding vehicle type, model, and manufacturer so that the Postal Service might fully consider the alternative in terms of pricing, operational capabilities, and market availability.

Comments should be received no later than August 15, 2022. The Postal Service will also publish a Notice of Availability to announce the availability of the Draft SEIS and solicit comments on the Draft SEIS during a second 45-day public comment period.

Interested parties may direct comments and questions to: Mr. Davon Collins, Environmental Counsel, United States Postal Service, 475 L'Enfant Plaza SW, Office 6606, Washington, DC 20260-6201, or at NEPA@usps.gov. Note that comments sent by mail may be subject to delay due to federal security screening. Faxed comments are not accepted. All submitted comments and attachments are part of the public record and subject to disclosure. Do not enclose any material in your comments that you consider to be confidential or inappropriate for public disclosure.

The Postal Service will also conduct a virtual public hearing on Monday, August 8, 2022, at 7 p.m. (ET).

References

1. U.S. Postal Service, Notice of Intent to Prepare an Environmental Impact Statement for Purchase of Next Generation Delivery Vehicles, 86 FR 12715 (Mar. 4, 2021).

2. U.S. Postal Service, Notice of Availability of Draft Environmental Impact Statement for Purchase of Next Generation Delivery Vehicle, 86 FR 47662 (Aug. 26, 2021).

3. U.S. Environmental Protection Agency, Notice of Availability of EIS No. 20210129, Draft, USPS, DC, Next Generation Delivery Vehicle Acquisitions, 86 FR 49531 (Sept. 3, 2021).

4. U.S. Environmental Protection Agency, Notice of Availability of EIS No. 20220001, Final, USPS, DC, Next Generation Delivery Vehicle Acquisitions, 87 FR 964 (Jan. 7, 2022).

5. U.S. Postal Service, Notice of Availability of Final Environmental Impact Statement for Purchase of Next Generation Delivery Vehicles, 87 FR 994 (Jan. 7, 2022).

6. U.S. Postal Service, Notice of Availability of Record of Decision, 87 FR 14588 (Mar 15, 2022).

7. U.S. Postal Service, Notice of Intent to Prepare a Supplement to the Next Generation Delivery Vehicle Acquisitions Final Environmental Impact Statement, 87 FR 35581 (June 10, 2022).

Sarah E. Sullivan,
Attorney, Ethics and Legal Compliance.

[FR Doc. 2022-15616 Filed 7-20-22; 8:45 am]

BILLING CODE 7710-12-P